SECURITIES AND EXCHANGE COMMISSION

[Release No. 35-27209]

Filings Under the Public Utility Holding Company Act of 1935, as Amended (“Act”)

August 7, 2000.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by August 28, 2000, to the Secretary, Securities and Exchange Commission, Washington, D.C. 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After August 28, 2000, the application(s) and/or declaration(s), as filed or as amended, may be granted and/or permitted to become effective.

DTE Energy Company (70-9705)

DTE Energy Company (“DTE”), 2000 2nd Avenue, Detroit, Michigan 48226-1279, a public utility holding company claiming exemption from registration under section 3(a)(1) of the Act by rule 2 under the Act, has filed an application under sections 9(a)(2) and 10 of the Act.

DTE proposes to acquire all of the issued and outstanding voting securities of International Transmission Company (“ITC”) (“Acquisition”), which DTE states will own and operate substantially all of the transmission assets more particularly described below (“Assets”), currently owned by Detroit Edison Company (“Detroit”), a public utility subsidiary company of DTE. The Acquisition will be one in a series of transactions in a corporate reorganization of DTE.

The Acquisition will be effected under a separation and subscription agreement between Detroit and ITC (“Agreement”). Under the Agreement, Detroit will transfer the Assets to ITC at their actual depreciated value as of December 31, 1999 in a tax-free exchange for all of ITC's voting securities (“Securities”). Following the exchange, Detroit will distribute the Securities to DTE as a common stock dividend. Following the Acquisition, ITC will be a “public utility company,” as defined in the Act.

The Assets will include approximately 6,472 miles of transmission facilities with ratings from 120 Kv to 345 Kv. DTE states that the Assets will be interconnected with several regional utilities and transmission organizations.

DTE states that the Acquisition is a preliminary step that will allow it to establish ITC as an independent and efficient participant in the open transmission market contemplated by the Federal Energy Regulatory Commission that then can be fairly priced by the product and capital markets. DTE states that it intends to later divest itself of ITC.

For the Commission by the Division of Investment Management, pursuant to delegated authority.
Margaret H. McFarland,
Deputy Secretary.

[FR Doc. 00-20410 Filed 8-10-00; 8:45 am]

BILLING CODE 8010-01-M